DEPARTMENT OF HEALTH AND HUMAN SERVICES

Substance Abuse and Mental Health Services Administration

Center for Mental Health Services; Notice of Meeting

Pursuant to Pub. L. 92-463, notice is hereby given of the meeting of the Center for Mental Health Services (CMHS) National Advisory Council in August 2005.

A portion of the meeting will be open and will include a roll call, general announcements, Director's and Administrator's Reports, as well as presentations and discussions about Mental Health System Transformation.

Attendance by the public will be limited to space available. Public comments are welcome. Please communicate with the individual listed below as contact to make arrangements to comment or to request special accommodations for persons with disabilities.

The meeting also will include the review, discussion, and evaluation of grant applications. Therefore a portion of the meeting will be closed to the public as determined by the Administrator, SAMHSA, in accordance with Title 5 U.S.C. 552b(c)(6) and 5 U.S.C. App. 2, Section 10(d).

Substantive program information and a roster of Council members may be obtained by accessing the SAMHSA Advisory Committee Web site (http://www.samhsa.gov) or by communicating with the contact whose name and telephone number are listed below. A summary of the meeting and the transcript for the open session will also be available on the SAMHSA Advisory Committee Web site as soon as possible after the meeting.

Committee Name: Center for Mental Health Services National Advisory Council.

Meeting Date: August 17-19, 2005.

Place: Sugarloaf Room, 1 Choke Cherry Road, Rockville, MD 20857.

Type: Closed: August 17, 2005 9 a.m.-3:30 p.m. Open: August 18, 2005 9 a.m.-5 p.m. August 19, 2005 9:30 a.m.-1 p.m.

Contact: Dianne McSwain, MS, Executive Secretary or: Tracey Cooper, Council Coordinator, 1 Choke Cherry Road, Room 6-1083, Rockville, Maryland 20857, telephone: (240) 276-1830, and fax (240) 276-1850; e-mail: Dianne.McSwain@hhs.samhsa.gov, e-mail: Tracey.Cooper@hhs.samhsa.gov.

Dated: July 13, 2005.
Toian Vaughn,
Committee Management Officer, Substance Abuse and Mental Health Services Administration.

[FR Doc. 05-14157 Filed 7-18-05; 8:45 am]

BILLING CODE 4162-20-P